DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Voluntary Partner Surveys in the Health Resources and Services Administration—(OMB No. 0915-0212): Extension

In response to Executive Order 12862, the Health Resources and Services Administration (HRSA) conducts voluntary customer surveys of its partners to assess strengths and weaknesses in program services. To continue the periodic customer or partner satisfaction survey activities, HRSA is requesting an extension of approval from OMB. HRSA partners are, typically, State or local governments, health care facilities, health care consortia, and health care providers. Partner surveys to be conducted by HRSA might include, for example, brief surveys of grantees to determine satisfaction with a technical assistance contractor, or, in-class evaluation forms completed by providers who receive training from HRSA grantees, to measure satisfaction with the training experience. Results of these surveys will be used to plan and direct program efforts as needed to improve service. Focus groups may also be used as a potential method to obtain input on services and training. Focus groups, in-class evaluation forms, and satisfaction surveys provide valuable input from HRSA partners and customers on agency services and materials. The estimated annual burden is as follows:

Instrument | Number of respondents | Responses per respondent | Total responses | Hours per response | Total burden hours
In-class evaluations | 40,000 | 1 | 40,000 | .05 | 2,000
Surveys | 12,000 | 1 | 12,000 | .25 | 3,000
Focus groups | 50 | 1 | 50 | 1.5 | 75
Total | 52,050 |  | 52,050 |  | 5,075

Send comments to Susan G. Queen, PhD, HRSA Reports Clearance Officer, Room 10-33, Parklawn Building, 5600 Fishers Lane, Rockville, MD 20857. Written comments should be received within 60 days of this notice.

Dated: April 23, 2008.
Alexandra Huttinger,
Director, Division of Policy Review and Coordination.

[FR Doc. E8-9495 Filed 4-29-08; 8:45 am]

BILLING CODE 4165-15-P